DEPARTMENT OF ENERGY

Federal Energy Regulatory Commission

Combined Notice of Filings #2

Take notice that the Commission received the following electric rate filings:

Docket Numbers: ER16-341-000; ER16-343-000.

Applicants: RE Astoria LLC, RE Astoria 2 LLC.

Description: Third Clarification to November 17, 2015 RE Astoria LLC and November 18, 2015 RE Astoria 2 LLC tariff filings.

Filed Date: 12/9/15.

Accession Number: 20151209-5046.

Comments Due: 5 p.m. ET 12/21/15.

Docket Numbers: ER16-496-000.

Applicants: Prairie Breeze Wind Energy II LLC.

Description: § 205(d) Rate Filing: Filing of Amended Assignment, Co-Tenancy, and Shared Facilities Agreement to be effective 12/11/2015.

Filed Date: 12/10/15.

Accession Number: 20151210-5059.

Comments Due: 5 p.m. ET 12/31/15.

Docket Numbers: ER16-497-000.

Applicants: Prairie Breeze Wind Energy III LLC.

Description: § 205(d) Rate Filing: Filing of Amended Assignment, Co-Tenancy, and Shared Facilities Agreement to be effective 12/11/2015.

Filed Date: 12/10/15.

Accession Number: 20151210-5062.

Comments Due: 5 p.m. ET 12/31/15.

Docket Numbers: ER16-498-000.

Applicants: RE Mustang LLC.

Description: Baseline eTariff Filing: Application for Market Base Rate to be effective 2/8/2016.

Filed Date: 12/10/15.

Accession Number: 20151210-5064.

Comments Due: 5 p.m. ET 12/31/15.

Docket Numbers: ER16-499-000.

Applicants: RE Mustang 3 LLC.

Description: Baseline eTariff Filing: Application for Market Based Rate to be effective 2/8/2016.

Filed Date: 12/10/15.

Accession Number: 20151210-5066.

Comments Due: 5 p.m. ET 12/31/15.

Docket Numbers: ER16-500-000.

Applicants: RE Mustang 4 LLC.

Description: Baseline eTariff Filing: Application for Market Based Rate to be effective 2/8/2016.

Filed Date: 12/10/15.

Accession Number: 20151210-5067.

Comments Due: 5 p.m. ET 12/31/15.

Docket Numbers: ER16-501-000.

Applicants: Southern California Edison Company.

Description: § 205(d) Rate Filing: Amendment to Extend Terms of Eldorado Co-Tenancy and Communication Agreement to be effective 1/1/2016.

Filed Date: 12/10/15.

Accession Number: 20151210-5077.

Comments Due: 5 p.m. ET 12/31/15.

Docket Numbers: ER16-502-000.

Applicants: Arizona Public Service Company.

Description: § 205(d) Rate Filing: Service Agreement No. 193—Amendment 4, ANPP Hassayampa Switchyard to be effective 11/10/2015.

Filed Date: 12/10/15.

Accession Number: 20151210-5124.

Comments Due: 5 p.m. ET 12/31/15.

Docket Numbers: ER16-503-000.

Applicants: Duke Energy Florida, LLC.

Description: § 205(d) Rate Filing: City of Quincy NITSA-NOA SA No. 153 to be effective 1/1/2016.

Filed Date: 12/10/15.

Accession Number: 20151210-5151.

Comments Due: 5 p.m. ET 12/31/15.

Docket Numbers: ER16-504-000.

Applicants: Talen Energy Marketing, LLC.

Description: Informational Filing of Talen Energy Marketing, LLC Pursuant to Schedule 2 of the PJM Interconnection, L.L.C. Open-Access Tariff.

Filed Date: 10/30/15.

Accession Number: 20151030-5336.

Comments Due: 5 p.m. ET 12/31/15.

Take notice that the Commission received the following electric securities filings:

Docket Numbers: ES16-9-000

Applicants: New York State Electric & Gas Corporation.

Description: Application for Authorization to Issue Short Term Debt of New York State Electric & Gas Corporation.

Filed Date: 12/10/15.

Accession Number: 20151210-5146.

Comments Due: 5 p.m. ET 12/31/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 10, 2015.
Nathaniel J. Davis, Sr.,
Deputy Secretary.

[FR Doc. 2015-31607 Filed 12-15-15; 8:45 am]

BILLING CODE 6717-01-P